DEPARTMENT OF TRANSPORTATION

Federal Aviation Administration

14 CFR Part 39

[Docket No. FAA-2005-20474; Directorate Identifier 2004-NM-221-AD]

RIN 2120-AA64

Airworthiness Directives; Airbus Model A300 B2-203 and B4-203 Series Airplanes; Model A310 Series Airplanes; Model A300 B4-600, B4-600R, and F4-600R Series Airplanes, and Model C4-605R Variant F Airplanes (Collectively Called A300-600)

AGENCY: Federal Aviation Administration (FAA), DOT.

ACTION: Notice of proposed rulemaking (NPRM).

SUMMARY: The FAA proposes to adopt a new airworthiness directive (AD) for certain Airbus transport category airplanes. This proposed AD would require an inspection to determine if the suspect part numbers (P/N) and serial numbers of certain Thales Avionics equipment is installed, and replacement of any suspect part with a modified part having a new P/N. This proposed AD is prompted by reports of loss of the digital distance radio magnetic indicator and subsequent loss of both very high frequency omnidirectional range indicators, both distance measuring equipment, and one centralized maintenance computer. We are proposing this AD to prevent loss of navigation indications on the primary flight display requiring continuation of the flight on emergency instruments, which could lead to reduced ability to control the airplane in adverse conditions.

DATES: We must receive comments on this proposed AD by April 4, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2005-20474; the directorate identifier for this docket is 2004-NM-221-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2004-20474; Directorate Identifier 2004-NM-221-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on Airbus Model A300 B2-203 and B4-203 series airplanes with a forward facing crew cockpit configuration; Model A310 series airplanes; and Model A300 B4-600, B4-600R, and F4-600R series airplanes, and Model C4-605R variant F airplanes (collectively called A300-600); equipped with certain Thales Avionics equipment.

The DGAC advises that it has received a report of loss of the digital distance radio magnetic indicator (DDRMI) and subsequent loss of both very high frequency omnidirectional range (VOR) indicators, both distance measuring equipment (DME), and one centralized maintenance computer (CMC) on a Model A330 series airplane. The DGAC also received a similar report also with the loss of both VORs and DMEs on a Model A320 series airplane. In both cases, the circuit breakers had tripped and the computers failed. Investigations revealed that the power transformer had short-circuited, leading to a leakage of 115 volt alternating current (VAC) to systems connected to the DDRMI ARINC 429 input buses. The reason for the transformer failure has been traced to a manufacturing issue, which affects a batch of transformers (i.e., altimeter, vertical speed indicator (VSI), radio magnetic indicator (RMI)/automatic direction finder (ADF) indicator, and RMI/VOR/DME indicator).

Failure of the DDRMI, if not corrected, could result in loss of navigation indications on the primary flight display requiring continuation of the flight on emergency instruments, which could lead to reduced ability to control the airplane in adverse conditions.

Other Relevant Rulemaking

We have previously issued AD 2002-06-53, amendment 39-12724 (67 FR 19511, April 22, 2002), applicable to Airbus Model A319, A320, A321, A330, and A340 series airplanes equipped with certain Thales Avionics DDRMIs. That AD requires deactivation of certain Thales Avionics DDRMIs. The actions specified in that are intended to prevent failure of the DDRMI, which could cause the loss of data from the affected computers to other systems and degradation or total failure of the computers, leading to reduced ability to control the airplane in adverse conditions.

Relevant Service Information

Airbus has issued the following service bulletins:

Airbus Service Bulletins
For model— | Airbus service bulletin—
A300-600 series airplanes | A300-34A6145, Revision 01, dated October 17, 2003.
A310 series airplanes | A310-34A2178, Revision 01, dated October 17, 2003.
A300 B2-203 and B4-203 series airplanes | A300-34A0173, Revision 01, dated December 18, 2003.

The service bulletins describe procedures for doing an inspection to determine if the suspect part numbers (P/N) and serial numbers (S/N) of certain Thales Avionics equipment is installed, and replacement of any suspect part with a modified part having a new P/N. Accomplishing the actions specified in the service information is intended to adequately address the unsafe condition. The DGAC mandated the service information, operational restrictions, and a report; and issued French airworthiness directive F-2004-037, issued March 17, 2004; to ensure the continued airworthiness of these airplanes in France.

Each Airbus service bulletin refers to the following Thales Avionics service bulletins as additional sources of service information for accomplishing the inspection and replacement if necessary.

Thales Avionics Service Bulletins
Thales Avionics service bulletin— | Revision— | Dated—
354-34-051 | 03 | October 13, 2003.
354-34-053 | 02 | October 10, 2003.
520-34-014 | 04 | April 22, 2004.
520-34-015 | 04 | July 1, 2004.
520-34-016 | 03 | November 20, 2003.
520-34-017 | 03 | July 1, 2004.
528-34-006 | 03 | June 29, 2004.
528-34-007 | 02 | October 10, 2003.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the Airbus service information described previously and submitting a report to the airplane manufacturer.

Differences Between French Airworthiness Directive and the Proposed AD

The French airworthiness directive mandates a revision to the Minimum Equipment List (MEL) to require that operation of certain navigation units (i.e., altimeter, vertical speed indicator, RMI/ADF indicator, and RMI/VOR/DME indicator) is necessary for dispatch of the airplane, until the actions specified in the Airbus service information described previously are done. This proposed AD does not contain this restriction because the FAA's Master MEL already contains these operational restrictions for these navigation units.

Costs of Compliance

This proposed AD would affect about 158 Model A310 series airplanes, and Model A300-600 series airplanes of U.S. registry. The proposed inspection would take about 1 work hour per airplane, at an average labor rate of $65 per work hour. Based on these figures, the estimated cost of the proposed AD for these U.S. operators is $10,270, or $65 per airplane.

Currently, there are no affected Model A300 B2-203 and B4-203 series airplanes on the U.S. Register. However, if an affected airplane is imported and placed on the U.S. Register in the future, the required actions would take about 1 work hour, at an average labor rate of $65 per work hour. Based on these figures, we estimate the cost of this AD for Model A300 B2-203 and B4-203 series airplanes to be $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-20474; Directorate Identifier 2004-NM-221-AD.

Comments Due Date

(a) The Federal Aviation Administration must receive comments on this AD action by April 4, 2005.

Affected ADs

(b) None.

Applicability

(c) This AD applies to the airplanes in paragraphs (c)(1) through (c)(3) of this AD certificated in any category, equipped with at least one of the Thales Avionics equipment part numbers listed in Table 1 of this AD.

(1) Airbus Model A300 B4-600, B4-600R, and F4-600R series airplanes, and Model C4-605R variant F airplanes (collectively called A300-600);

(2) Airbus Model A310 series airplanes; and

(3) Airbus Model A300 B2-203 and B4-203 series airplanes with a forward facing crew cockpit configuration.

Table 1.—Affected Thales Avionics Equipment
Equipment | Part number (P/N)
Altimeter indicator | 65205-211-2, -3, or -4; 65205-230-1, -2, or -3; or 65205-235-1.
Radio magnetic indicator (RMI)/automatic direction finder (ADF) indicator | 63540-040-1 or 63540-031-2
RMI/very high frequency omnidirectional range (VOR) indicators/distance measuring equipment (DME) | 63540-170-2 or 63540-156-3.
Vertical speed indicator (VSI) | 65285-220-2 or 65285-230-1.

Unsafe Condition

(d) This AD was prompted by reports of loss of the digital distance radio magnetic indicator and subsequent loss of both VORs, both DMEs, and one centralized maintenance computer. We are issuing this AD to prevent loss of navigation indications on the primary flight display requiring continuation of the flight on emergency instruments, which could lead to reduced ability to control the airplane in adverse conditions.

Compliance

(e) You are responsible for having the actions required by this AD performed within the compliance times specified, unless the actions have already been done.

Service Bulletins

(f) The term “Airbus service bulletin,” as used in this AD, means the Accomplishment Instructions of the applicable service bulletin in Table 2 of this AD.

Table 2.—Airbus Service Bulletins
For Model— | Airbus service bulletin—
(1) A300-600 series airplanes | A300-34A6145, Revision 01, dated October 17, 2003.
(2) A310 series airplanes | A310-34A2178, Revision 01, dated October 17, 2003.
(3) A300 B2-203 and B4-203 series airplanes | A300-34A0173, Revision 01, dated December 18, 2003.

(g) Each Airbus service bulletin in Table 2 of this AD refers to the Thales Avionics service bulletins in Table 3 of this AD as additional sources of service information for accomplishing the inspection and replacement if necessary.

Table 3.—Thales Avionics Service Bulletins
Thales Avionics service bulletin— | Revision— | Dated—
(1) 354-34-051 | 03 | October 13, 2003.
(2) 354-34-053 | 02 | October 10, 2003.
(3) 520-34-014 | 04 | April 22, 2004.
(4) 520-34-015 | 04 | July 1, 2004.
(5) 520-34-016 | 03 | November 20, 2003.
(6) 520-34-017 | 03 | July 1, 2004.
(7) 528-34-006 | 03 | June 29, 2004.
(8) 528-34-007 | 02 | October 10, 2003.

Inspection and Replacement

(h) Within 6 months after the effective date of this AD, do an inspection to determine if the suspect P/Ns and serial number (S/N) of the Thales Avionics equipment is installed, in accordance with the Airbus service bulletin. If any suspect P/N and S/N is found, within 6 months after the effective date of this AD, replace the suspect part with a modified part having a new P/N, in accordance with the Airbus service bulletin.

Parts Installation

(i) As of the effective date of this AD, no person may install any Thales Avionics equipment specified in Table 1 of this AD on any airplane.

Reporting Requirement

(j) Within 6 months after the effective date of this AD, submit a report of all P/Ns and S/N of overhauled equipment found during the inspection required by paragraph (h) of this AD to Airbus, 1 Rond Point Maurice Bellonte, 31707 Blagnac Cedex, France; fax 011-33-561934251. Information collection requirements contained in this AD have been approved by the Office of Management and Budget (OMB) under the provisions of the Paperwork Reduction Act of 1980 (44 U.S.C. 3501 et seq.) and have been assigned OMB Control Number 2120-0056.

Alternative Methods of Compliance (AMOCs)

(k) The Manager, International Branch, ANM-116, Transport Airplane Directorate, FAA, has the authority to approve AMOCs for this AD, if requested in accordance with the procedures found in 14 CFR 39.19.

Related Information

(l) French airworthiness directive F-2004-037, issued March 17, 2004, also addresses the subject of this AD.

Issued in Renton, Washington, on February 18, 2005.
Ali Bahrami,
Manager, Transport Airplane Directorate, Aircraft Certification Service.

[FR Doc. 05-4078 Filed 3-2-05; 8:45 am]

BILLING CODE 4910-13-P